FEDERAL COMMUNICATIONS COMMISSION

47 CFR Part 73

[DA 06-2025; MB Docket No. 05-14; RM-11088; MB Docket No. 05-15; RM-11148]

Radio Broadcasting Services; Powers, OR, and Zapata, TX

AGENCY: Federal Communications Commission.

ACTION: Final rule.

SUMMARY: This document allots Channel 293C2 to Powers, Oregon, and Channel 292A to Zapata, Texas. It also makes an editorial change in the FM Table of Allotments by removing Channel 228A and adding Channel 228C3 at Zapata, Texas. See SUPPLEMENTARY INFORMATION, infra.

DATES: Effective November 27, 2006. The window period for filing applications for these channels will not be opened at this time. Instead, the issue of opening filing windows for these allotments for auction will be addressed by the Commission in a subsequent order.

FOR FURTHER INFORMATION CONTACT: Sharon P. McDonald, Media Bureau, (202) 418-2180.

SUPPLEMENTARY INFORMATION: This is a synopsis of the Commission's Report and Order, MB Docket Nos. 05-14 and 05-15, adopted October 11, 2006, and released October 13, 2006. The full text of this Commission decision is available for inspection and copying during normal business hours in the FCC Reference Information Center, Portals II, 445 12th Street, SW., Room CY-A257, Washington, DC, 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see 5 U.S.C. 801(a)(1)(A).

The Audio Division, at the request of Mikel Chavez, allots Channel 293C2 at Powers, Oregon, as the community's first local aural transmission service. See 70 FR 7221, February 11, 2005. Channel 293C2 can be allotted to Powers in compliance with the Commission's minimum distance separation requirements at city reference coordinates. The reference coordinates for Channel 293C2 at Powers are 42-53-01 North Latitude and 124-04-19 West Longitude.

The Audio Division, at the request of Jeraldine Anderson, allots Channel 292A at Zapata, Texas, as the community's fourth local FM transmission service. See 70 FR 7221, February 11, 2005. Channel 292A can be allotted to Zapata in compliance with the Commission's minimum distance separation requirements with a site restriction of 9.0 kilometers (5.6 mile) south to avoid a sort-spacing to the licensed site for Station KPSO-FM, Channel 292A, Falfurria, Texas. The reference coordinates for Channel 292A at Zapata are 26-49-57 North Latitude and 99-14-25 West Longitude. Because Zapata is located within 320 kilometers (199 miles) of the U.S.-Canadian border, concurrence of the Mexican government has been obtained.

List of Subjects in 47 CFR Part 73

Radio, Radio broadcasting.

As stated in the preamble, the Federal Communications Commission amends 47 CFR Part 73 as follows:

PART 73—RADIO BROADCAST SERVICES

1. The authority citation for part 73 continues to read as follows:

Authority: 47 U.S.C. 154, 303, 334, 336.

§ 73.202 [Amended]

2. Section 73.202(b), the Table of FM Allotments under Oregon, is amended by adding Powers, Channel 293C2.

3. Section 73.202(b), the Table of FM Allotments under Texas, is amended by removing Channel 228A, and adding Channels 228C3 and 292A at Zapata.

Federal Communications Commission.
John A. Karousos,
Assistant Chief, Audio Division, Media Bureau.

[FR Doc. E6-18402 Filed 10-31-06; 8:45 am]

BILLING CODE 6712-01-P